FEDERAL COMMUNICATIONS COMMISSION

Notice of Public Information Collection(s) Being Reviewed by the Federal Communications Commission

May 31, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 10, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0056.

Title: Registration of Telephone and Data Terminal Equipment.

Form No.: FCC Form 730.

Type of Review: Extension of a currently approved collection.

Respondents: Businesses or other for-profit.

Number of Respondents: 2,400.

Estimated Time Per Response: 24 hours.

Frequency of Response: On occasion reporting requirement .

Total Annual Burden: 57,600 hours.

Total Annual Cost: $2,700,000.

Needs and Uses: Telephone and data equipment located on customer premises must be registered with the Commission. Part 68 of the FCC's rules and regulations establish nationwide technical standards for telephone and data equipment designed for connection to the network. Part 68 also sets forth the terms and conditions for connection and for the registration of customer provided terminal equipment. The purpose of Part 68 is to protect the network from certain types of harm and interference to other subscribers.

The FCC Form 730 is used to obtain registration of telephone equipment pursuant to Part 68. In addition to filing the form, applicants are required to submit exhibits and other informational showings as specified in Part 68.

This notice is necessary to obtain public comment so that the Commission can continue to collect the necessary information subject to the Paperwork Reduction Act. There is no change to this collection. The Commission is extending the current Office of Management and Budget (OMB) approval for the next three years.

Federal Communications Commission.
Magalie Roman Salas,
Secretary.

[FR Doc. 00-14539 Filed 6-8-00; 8:45 am]

BILLING CODE 6712-01-P